DEPARTMENT OF JUSTICE

Antitrust Division

Notice Pursuant to the National Cooperative Research and Production Act of 1993—Information Warfare Research Project Consortium

Notice is hereby given that, on July 14, 2020, pursuant to Section 6(a) of the National Cooperative Research and Production Act of 1993, 15 U.S.C. 4301 et seq. (“the Act”), Information Warfare Research Project Consortium (“IWRP”) has filed written notifications simultaneously with the Attorney General and the Federal Trade Commission disclosing changes in its membership. The notifications were filed for the purpose of extending the Act's provisions limiting the recovery of antitrust plaintiffs to actual damages under specified circumstances. Specifically, 502 Design Services, Inc., Palm Harbor, FL; Alluvionic Inc., Melbourne, FL; Arganteal, Corp, Austin, TX; Arkham Technology Limited, Irvine, CA; Ascentium, LLC, Fairfax, VA; Attollo, LLC, Cumberland, RI; Axellio Inc., Colorado Springs, CO; Black Cape, Inc., Arlington, VA; Blue Arc, LLC, Aberdeen Proving Ground, MD; Bowhead Professional Solutions, LLC, Springfield, VA; BridgeComm Inc., Denver, CO; Broadband Antenna Tracking Systems Inc. (BATS Wireless), Indianopolis, IN; Cape Henry Associates, Inc., Virginia Beach, VA; Channel Logistics, LLC dba Space Eyes, Camden, NJ; CIS Mobile, Ashburn, VA; Clear Align LLC, Nashua, NH, CoAspire, LLC, Fairfax, VA; Cog Systems, Inc., Lake Zurich, IL; Constellation Software Engineering dba CSEngineering, Annapolis, MD; Convergent Solutions, Inc., McLean, VA; CP Technologies, LLC, San Diego, CA; Critical Frequency Design, LLC, Melbourne, FL; Crystal Group, Inc., Hiawatha, IA; Dark Wolf Solutions, LLC, Chantilly, VA; DataDirect Networks Federal, LLC, Columbia, MD; Decision Sciences Incorporated, Ft. Walton Beach, FL; Digital Global Systems, Inc., Studio 1A, VA; Dualos, LLC, Tacoma, WA; DY4 Inc. dba Curtiss-Wright, Ashburn, VA; Dynamic Integrated Services, LLC, Pensacola, FL; Eduworks Corporation, Corvallis, OR; Eridan Communications, Inc., Mountain View, CA; Federal Data Systems LLC, Columbia, MD; Foresight Data Systems LLC, Columbia, SC; FragCity Inc., Fredericksburg, VA; Haivision Network Video Inc., Deerfield, IL; Hawks Nest Solutions, Inc. dba Marjau Systems Corporation, Tampa, FL; Honeywell International, Inc., Clearwater, FL; Hughes Network Systems, LLC, Germantown, MD; InfoGuard Staffing Partners, LLC dba Fortress Government Solutions, Orlando, FL; Intel Federal LLC, Fairfax, VA; Intelligent Waves, LLC, Reston, VA; Interdigital Communications, Inc., Wilmington, DE; Intrinsix Corp., Marlborough, MA; Irvin Technologies, Inc., Winter Springs, FL; IT Consulting Partners, LLC, Jackson, WY; Jupiter LLC, Silver Spring, MD; Key Cyber Solutions LLC, Richmond, VA; Knight Sky, LLC, Frederick, MD; Knowledge Vortex Inc., Madison, AL; Kopis Mobile LLC, Flowood, MS; Kriaanet, Inc., Quantico, VA; L3 Systems Company, Camden, NJ; MicroHealth, LLC, Vienna, VA; Milpower, Nampda, ID; MindPoint Group, LLC, Alexandria, VA; NEC Corporation of America, Arlington, VA; Netizen Corporation, Allentown, PA; Old Dominion University Research Foundation, Norfolk, VA; Omni Federal, Gainesville, VA; Omni Technologies, Aberdeen Proving Ground, MD; Onoffblock Inc. DBA Xenesis, New Lenox, IL; Oteote Inc., Encinitas, CA; Pathfinder Wireless Corp., Seattle, WA; PDC America, Seneca, SC; Perspecta Risk Decision Inc., Loveland, CO; PhasorLab, Inc., Billerica, MA; Poplicus, Inc DBA Govini, Arlington, VA; Procentrix, Inc., Herndon, VA; Q Networks LLC, Menlo Park, CA; Quantitative Scientific Solutions, LLC (QS-2), Arlington, VA; QuickFlex Inc., San Antonio, TX; Red Octopus Digital Services, LLC, Arlington, VA; Research and Development Solutions, Inc. (RDSI), McLean, VA; Sabel Systems Technology Solutions, LLC, Gainesville, VA; Saildrone Inc., Alameda, CA; SecureG, Inc., Herndon, VA; Sherpa 6 Inc., Littleton, CO; Smartronix, LLC, Hollywood, MD; srcLogic, LLC, Vienna, VA; SRI International, Menlo Park, CA; Stephenson Stellar Corporation, Baton Rouge, LA; Sterling Computers Corporation, North Sioux City, SD; Systems & Technology Research (STR), Woburn, MA; Systems and Proposal Engineering Company (Spec Innovations), Manassas, VA; Systems Planning and Analysis, Inc. (SPA), Alexandria, VA; Tableau Software, LLC., Seattle, WA; Tachyon Networks, LLC, San Diego, CA; Tech Wizards, Inc., King George, VA; The KeyW Corporation, Hanover, MD; Torch Research, LLC (Torch AI), Leawood, KS; Tribalco, LLC, Bethesda, MD; Two Six Labs, LLC, Arlington, VA; Velocity Works LLC, Pittsburgh, PA; Virginia Tech Applied Research Corporation, Arlington, VA; Virtualitics, Inc., Pasadena, CA; Visible Assets, Inc., Stratham, NH; Whitney Strategic Services LLC, New York, NY; Wind River Systems, Inc., Alameda, CA; Wind Talker Innovations, Inc., Fife, WA; and XTAR, LLC, Ashburn, VA have been added as parties to this venture.

Also, Affordable Engineering Services, Inc. (AES), San Diego, CA; Alamo City Engineering Services Inc. (ACES), San Antonio, TX; Applied Research Associates, Inc., Albuquerque, NM; Centurum Information Technology, Inc., Marlton, NJ; DUST Identity, Inc., Needham, MA; GPS Source, Inc., Pueblo, CO; Guidon Technology Solutions, Inc., Issaquah, WA; HaloTech Solutions LLC, Columbia, MD; Jasper Solutions Inc., Huntington Station, NY; Johns Hopkins University Applied Physics Laboratory LLC (JHU APL), Laurel, MD; Louisiana Technology Group Inc. (LATG), New Orleans, LA; Netsync Network Solutions, Inc., Houston, TX; Parsons Government Services, Inc., Pasadena, CA; Recogniti LLP, Hagertown, MD; Rudram Engineering, Inc., Rockledge, FL; SafeNet Assured Technologies LLC, Arbingdon, MD; Sea Machines Robotics Inc., Boston, MA; Sentient Science Corporation, Buffalo, NY; Space Sciences Corporation, Lemitar, NM; Subsystem Technologies Inc., Arlington, VA; The Pennsylvania State University, University Park, PA; The University of New Orleans, New Orleans, LA; Tkacz Engineering LLC, Myrtle Beach, SC; and Warrant Technologies, LLC, Bloomington, IN, have withdrawn from this venture.

No other changes have been made in either the membership or planned activity of the group research project. Membership in this group research project remains open, and IWRP intends to file additional written notifications disclosing all changes in membership.

On October 15, 2018, IWRP filed its original notification pursuant to Section 6(a) of the Act. The Department of Justice published a notice in the Federal Register pursuant to Section 6(b) of the Act on October 23, 2018 (83 FR 53499).

The last notification was filed with the Department on April 15, 2020. A notice was published in the Federal Register pursuant to Section 6(b) of the Act on May 5, 2020 (85 FR 26711).

Suzanne Morris,
Chief, Premerger and Division Statistics, Antitrust Division.

[FR Doc. 2020-16700 Filed 7-31-20; 8:45 am]

BILLING CODE 4410-11-P